ENVIRONMENTAL PROTECTION AGENCY

40 CFR Part 52

[EPA-R09-OAR-2024-0570; FRL-12518-01-R9]

Extension of the Attainment Date of the Coachella Valley Extreme Nonattainment Area Under the 1997 Ozone National Ambient Air Quality Standards

AGENCY: Environmental Protection Agency (EPA).

ACTION: Proposed rule.

SUMMARY: The Environmental Protection Agency (EPA) is proposing to grant a one-year extension of the “Extreme” attainment date for the 1997 ozone national ambient air quality standards (NAAQS) to the Riverside County (Coachella Valley) ozone nonattainment area (“Coachella Valley”). This action is based on the EPA's evaluation of air quality monitoring data and the extension request submitted by the State of California. We are taking comments on this proposal and plan to follow with a final action.

DATES: Comments must be received on or before April 16, 2025.

ADDRESSES: Submit your comments, identified by Docket ID No. EPA-R09-OAR-2024-0570 at https://www.regulations.gov. For comments submitted at Regulations.gov, follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, please contact the person identified in the FOR FURTHER INFORMATION CONTACT section. For the full EPA public comment policy, information about CBI or multimedia submissions, and general guidance on making effective comments, please visit https://www.epa.gov/dockets/commenting-epa-dockets. If you need assistance in a language other than English or if you are a person with a disability who needs a reasonable accommodation at no cost to you, please contact the person identified in the FOR FURTHER INFORMATION CONTACT section.

FOR FURTHER INFORMATION CONTACT: Tom Kelly, EPA Region IX, ARD-2-2, 75 Hawthorne St., San Francisco, CA 94105: phone: (415) 972-3856; email: kelly.thomasp@epa.gov.

SUPPLEMENTARY INFORMATION: Throughout this document, “we,” “us,” and “our” refer to the EPA.

Table of Contents

I. Background

A. 1997 Ozone NAAQS

B. Coachella Valley 1997 Ozone Designation, Classifications and SIP Revisions

C. The EPA's Authority and Requirements for Attainment Date Extensions

D. Exceptional Events Demonstration

II. The State's Submittal and the EPA's Evaluation

A. Request for an Extension

B. The EPA's Evaluation

III. The EPA's Proposed Action

IV. Statutory and Executive Order Reviews

I. Background

A. 1997 Ozone NAAQS

Ground-level ozone pollution is formed from the reaction of volatile organic compounds (VOC) and oxides of nitrogen (NOX) in the presence of sunlight.¹ These two pollutants, referred to as ozone precursors, are emitted by many types of sources, including on- and off-road motor vehicles and engines, power plants and industrial facilities, and smaller area sources such as lawn and garden equipment and paints.

¹ The State of California refers to reactive organic gases (ROG) rather than VOC in some of its ozone-related submissions. As a practical matter, ROG and VOC refer to the same set of chemical constituents, and for the sake of simplicity, we refer to this set of gases as VOC in this proposed rule.

Scientific evidence indicates that adverse public health effects occur following exposure to ozone, particularly in children and adults with lung disease. Breathing air containing ozone can reduce lung function and inflame airways, which can increase respiratory symptoms and aggravate asthma or other lung diseases.²

² EPA, Health Effects of Ozone Pollution, available at https://www.epa.gov/ground-level-ozone-pollution/health-effects-ozone-pollution.

Under section 109 of the Clean Air Act (CAA or “Act”), the EPA promulgates national ambient air quality standards (NAAQS or “standards”) for pervasive air pollutants, such as ozone. The NAAQS are concentration levels whose attainment and maintenance the EPA has determined to be requisite to protect public health and welfare. In 1979, under section 109 of the CAA, the EPA established primary and secondary standards for ozone at 0.12 parts per million (ppm) averaged over a 1-hour period.³

³ 44 FR 8202 (February 8, 1979).

On July 18, 1997, the EPA revised the primary and secondary NAAQS for ozone to set the acceptable level of ozone in the ambient air at 0.08 ppm, averaged over an 8-hour period.⁴ The EPA set the 1997 8-hour ozone NAAQS based on scientific evidence demonstrating that ozone causes adverse health effects at lower concentrations and over longer periods of time than was understood when the pre-existing 1-hour ozone standards were set. The EPA determined that the 8-hour standards would be more protective of human health, especially for children and for adults who are active outdoors, and for individuals with a preexisting respiratory disease, such as asthma.

⁴ 62 FR 38856. Primary standards provide public health protection, including protecting the health of “sensitive” populations such as asthmatics, children, and the elderly. Secondary standards provide public welfare protection, including protection against decreased visibility and damage to animals, crops, vegetation, and buildings. Since the primary and secondary standards established in 1997 are set at the same level, we refer to them herein using the singular “1997 8-hour ozone NAAQS” or “1997 8-hour ozone standard.”

In March 2008, the EPA completed another review of the primary and secondary ozone standards and tightened them further by lowering the level for both to 0.075 ppm.⁵ The EPA revoked the 1997 8-hour ozone NAAQS effective April 6, 2015; ⁶ however, to comply with anti-backsliding requirements of the Act, areas designated nonattainment at the time that the 1997 8-hour ozone NAAQS was revoked remain subject to certain requirements based on their classification at the time of revocation, including requirements related to nonattainment contingency measures under CAA sections 172(c)(9) and 182(c)(9) and, for “Severe” and “Extreme” areas, major source fee programs under CAA section 185.⁷ The EPA's determination that an area failed to attain by its attainment date, which is made under CAA section 301 and consistent with section 181(b)(2), triggers these anti-backsliding requirements. See South Coast Air Quality Mgmt. Dist. v. EPA, 882 F.3d 1138, 1147 (D.C. Cir. 2018).

⁵ 73 FR 16436 (March 27, 2008).

⁶ 80 FR 12264 (March 6, 2015).

⁷ 40 CFR 51.1100(o).

On October 26, 2015, the EPA again revised the level of the primary (and secondary) ozone NAAQS once more to 0.70 ppm.⁸

⁸ 80 FR 65292.

B. Coachella Valley 1997 Ozone Designation, Classifications and SIP Revisions

Following promulgation of a new or revised NAAQS, the EPA is required by the CAA to designate areas throughout the nation as attaining or not attaining the standards. Effective June 15, 2004, we designated nonattainment areas for the 1997 8-hour ozone standards.⁹ The designations and classifications for the 1997 8-hour ozone standards for California areas are codified at 40 CFR 81.305. In a rule governing certain facets of implementation of the 8-hour ozone standards (the Phase 1 Rule), the EPA classified the Coachella Valley as “Serious” for the 1997 8-hour ozone standards, with an attainment date no later than June 15, 2013.¹⁰

⁹ 69 FR 23858 (April 30, 2004).

¹⁰ 69 FR 23858 (April 30, 2004).

The Coachella Valley includes a part of the Colorado Desert in Riverside County, California, as well as parts of the adjacent mountain ranges. For a precise description of the geographic boundaries of the area, see 40 CFR 81.305. The Coachella Valley is under the jurisdiction of the South Coast Air Quality Management District (SCAQMD or “District”). The District and California Air Resources Board (CARB or “State”) are responsible for adopting and submitting a state implementation plan (SIP) to attain the 1997 8-hour ozone standards for nonattainment areas in their jurisdiction. The District primarily regulates stationary sources while CARB regulates mobile sources.

On November 28, 2007, the CARB requested that the EPA reclassify the Coachella Valley 8-hour ozone nonattainment area from “Serious” to “Severe-15.” The EPA granted the reclassification, effective June 4, 2010, with an attainment date of not later than June 15, 2019.¹¹ On June 12, 2017, the EPA approved District and CARB submittals addressing many of the Severe nonattainment area planning requirements under the CAA for Coachella Valley.¹²

¹¹ 75 FR 24409 (May 5, 2010).

¹² 82 FR 26854.

On June 11, 2019, the State requested a reclassification of Coachella Valley from “Severe-15” to “Extreme,” which the EPA granted with an attainment date of not later than June 15, 2024.¹³ As explained in the notice for that action, the EPA's reclassification to Extreme nonattainment applies only to the portions of the Coachella Valley subject to the State's jurisdiction, and the EPA did not reclassify any areas of Indian country within the boundaries of the nonattainment area. On April 16, 2024, the EPA proposed approval of District and CARB submittals addressing many of the Extreme area planning requirements under the CAA for Coachella Valley.¹⁴ On June 12, 2024, the EPA finalized approval of certain elements of the Extreme area plan, including the attainment demonstration, but deferred action on the reasonable further progress demonstration and the vehicle miles traveled offset demonstration.¹⁵

¹³ 84 FR 32841 (July 10, 2019).

¹⁴ The proposal, 89 FR 26817, did not address the submittal's reasonably available control technology demonstration.

¹⁵ 89 FR 49815.

C. The EPA's Authority and Requirements for Attainment Date Extensions

Under CAA section 181(a)(5), the EPA may grant a state's request to extend the attainment date established under CAA section 181(a)(5) if: “(1) the State has complied with all requirements and commitments pertaining to the area in the applicable implementation plan, and (2) no more than 1 exceedance of the national ambient air quality standard level for ozone has occurred in the area in the year preceding the Extension Year.” The EPA may grant a second 1-year extension if these same criteria are met in the year following the first extension year. The EPA cannot issue more than two one-year extensions under section 181(a)(5) for a single nonattainment area.

With respect to the first criterion, the EPA interprets the provision as having been satisfied if a state can demonstrate that it is in compliance with its approved implementation plan.¹⁶ A state may meet this requirement by certifying its compliance, and in the absence of such certification, the EPA may make a determination as to whether the criterion has been met. See Delaware, 895 F.3d at 101-102.

¹⁶ See Delaware Dept. of Nat. Resources and Envtl. Control v. EPA, 895 F.3d 90, 101 (D.C. Cir. 2018) (holding that the CAA requires only that an applying state with jurisdiction over a nonattainment area comply with the requirements in its applicable SIP, not every requirement of the Act); see also Vigil v. Leavitt, 381 F.3d 826, 846 (9th Cir. 2004).

With respect to the second criterion, and specifically the 1997 ozone NAAQS, the EPA has interpreted the air quality criterion of CAA section 181(a)(5)(B) to mean that an area's 4th highest daily maximum 8-hour value in the attainment year is 0.084 ppm or less.¹⁷ Furthermore, this value must be at the monitor with the highest 4th highest daily 8-hour average of all the monitors that represent the area, also called the design value monitor.¹⁸

¹⁷ 40 CFR 51.907(a).

¹⁸ 40 CFR 51.907(c).

D. Exceptional Events Demonstration

Congress has recognized that it may not be appropriate for the EPA to use certain monitoring data collected by the ambient air quality monitoring network and maintained in the EPA's air quality system (AQS) database in certain regulatory determinations. Thus, in 2005, Congress provided the statutory authority for the exclusion of data influenced by “exceptional events” meeting specific criteria by adding section 319(b) to the CAA and granted the EPA with the authority to propose regulations to review and manage air quality monitoring data influenced by exceptional events.¹⁹

¹⁹ Under CAA section 319(b), an exceptional event means an event that: (i) affects air quality; (ii) is not reasonably controllable or preventable; (iii) is an event caused by human activity that is unlikely to recur at a particular location or a natural event; and (iv) is determined by the EPA under the process established in regulations promulgated by the EPA in accordance with section 319(b)(2) to be an exceptional event. For the purposes of section 319(b), an exceptional event does not include: (i) stagnation of air masses or meteorological inversions; (ii) a meteorological event involving high temperatures or lack of precipitation; or (iii) air pollution relating to source noncompliance.

On March 22, 2007, the EPA promulgated the 2007 Exceptional Events Rule in order to implement this 2005 CAA amendment.²⁰ The 2007 Exceptional Events Rule created a regulatory process codified at 40 CFR parts 50 and 51 (§§ 50.1, 50.14, and 51.930). These regulatory sections supersede the EPA's previous guidance on handling data influenced by exceptional events. The sections contain definitions, procedural requirements, requirements for air agency demonstrations, criteria for the EPA's approval of the exclusion of event-affected air quality data from the data set used for regulatory decisions, and requirements for air agencies to take appropriate and reasonable actions to protect public health from exceedances and violations of the NAAQS. On October 3, 2016, the EPA promulgated a comprehensive revision to the 2007 Exceptional Events Rule.²¹ The 2016 Exceptional Events Rule revision addressed State demonstrations that emissions from a wildfire smoke event cause a specific air pollution concentration in excess of the NAAQS at a particular air quality monitoring location. If such a demonstration is completed to the Administrator's satisfaction and addresses the requirements of 40 CFR 50.14, the EPA must exclude that data from use in determinations of exceedances and violations.²²

²⁰ 72 FR 13650.

²¹ 81 FR 68216.

²² 40 CFR 50.14(b)(4).

For the purposes of this proposed action, on October 11, 2024, CARB submitted an exceptional events demonstration to the EPA on behalf of the District. The demonstration showed the maximum daily 8-hour average ozone concentration recorded at the Palm Springs—Fire Station monitor (AQS Site ID #060655001) on July 14-15, 2023, were influenced by Highland, Rabbit, and Reche wildfires.²³ The EPA concurred with this demonstration on December 10, 2024.²⁴

²³ Letter from Steven S. Cliff, CARB, to Martha Guzman, EPA, dated October 11, 2024. Following the District's release of the District's Draft Exceptional Event Demonstration for public comment, CARB submitted that Demonstration to EPA for parallel processing (i.e. EPA's approval of the District's Draft Demonstration, on September 12, 2024.

²⁴ Letter from Matthew Lakin, EPA Region IX to Michael Benjamin, CARB, dated December 10, 2024.

One of the EPA's criteria for evaluating exceptional events is regulatory significance, “a demonstration that the event affected air quality in such a way that there exists a clear causal relationship between the specific event and the monitored exceedance or violation.” ²⁵ In this case, the EPA found that the demonstration had regulatory significance for purposes of calculating the Coachella Valley's 4th highest ozone value in 2023, which could determine the area's eligibility for an attainment date extension for the 1997 ozone NAAQS. Therefore, the EPA proposes to take final regulatory action on the concurred dates, as exceptional events to be removed from the dataset used for regulatory purposes. The rationale of the EPA's exceptional events concurrence is detailed in the docket.²⁶ For this proposed action, the EPA will rely on the calculated design values that exclude the event-influenced data for the purpose of demonstrating attainment of the 1997 ozone NAAQS. Further details on District's analyses and the EPA's concurrence, including the exceptional events initial notification, exceptional events demonstration, and the EPA's response to the initial notification can also be found in the docket for this regulatory action.

²⁵ 40 CFR 50.14(c)(3)(iv).

²⁶ See Technical Support Document for EPA Concurrence on O3 Exceedances measured in Coachella Valley, California on July 14-15, 2023, as an Exceptional Event.

While the EPA has concurred with the request to exclude event-influenced air quality monitoring data from regulatory decisions, EPA guidance anticipates the Agency will provide an opportunity for public comment on the claimed exceptional events and all supporting data prior to the EPA taking final agency action. This proposed action provides the public with an opportunity to comment on the EPA-concurred exceptional events, all supporting documents, and the EPA's concurrence with the District and CARB request.

II. The State's Submittal and the EPA's Evaluation

A. Request for an Extension

On October 11, 2024, CARB submitted a letter (“CARB letter”) requesting that the EPA grant a one-year extension under section 181(a)(5), to the Extreme area attainment date for the Coachella Valley, from June 15, 2024, to June 15, 2025.²⁷ It states, “1) the state has complied with all requirements and commitments pertaining to the area in the applicable State Implementation Plan; and 2) air quality data shows that for the first one-year extension, the area's 4th highest daily 8-hour average in the attainment year is at or below the 1997 ozone standard.” The CARB letter included a letter from the District to CARB.²⁸ It states, “1. The State has complied with all requirements and commitments pertaining to the area in the applicable State Implementation Plan; and 2. In accordance with guidance published by the Administrator, no more than a minimal number of exceedances of the relevant national ambient air quality standard has occurred in the area in the year preceding the extension year.” The District letter also includes an Attachment, “South Coast AQMD's Demonstration of Compliance with Clean Air Act Section 172(a)(2)(C) Requirements” (“Demonstration of Compliance”).²⁹

²⁷ Letter from Steven S. Cliff, CARB, to Martha Guzman, EPA, dated October 11, 2024.

²⁸ Letter from Wayne Nastri, SCAQMD, to Steven S. Cliff, CARB, Re: Attainment Date Extension for the 1997 8-hour Ozone Standard for the Coachella Valley, dated October 1, 2024.

²⁹ CAA section 172 is consistent with CAA section 182(b)(5), but the latter section is more specific to ozone.

The Demonstration of Compliance identifies the relevant elements of the SIP addressing the 1997 ozone NAAQS, the 2007 Air Quality Management Plan (2007 AQMP”),³⁰ and the 2014 Updates to the 1997 8-Hour Ozone Standard, State Implementation Plans, Coachella Valley and Western Mojave Desert (“2014 Updates”).³¹ The required elements addressed by these plans included: the reasonable further progress and rate of progress demonstrations, the motor vehicle emissions budgets for transportation conformity, and the reasonably available control measures demonstration,³² and vehicle miles traveled (VMT) offset demonstration.³³ In meeting these requirements, the 2007 AQMP did not include new proposed control measures and the 2014 Updates relied on existing or baseline measures.³⁴ The Demonstration of Compliance mentions another plan, the Revisions to PM2.5 and Ozone SIP for South Coast Air Basin and Coachella Valley, but the updated control measures were not relied on for the attainment demonstration.³⁵

³⁰ Air Quality Management Plan, SCAQMD, June 2007.

³¹ 2014 Updates to the 1997 8-Hour Ozone Standard, State Implementation Plans, Coachella Valley and Western Mojave Desert, CARB, Release Date: September 22, 2014.

³² Demonstration of Compliance, p. 3.

³³ The CARB letter states that the EPA has approved an Extreme area VMT offset demonstration (p. 1). The EPA has proposed approval, see 89 FR 26817 (April 16, 2024), but, as of the signing of this proposed action, has not taken further action on the Extreme area VMT offset demonstration.

³⁴ Demonstration of Compliance, p. 3 and 4.

³⁵ Id., p. 2.

For the Extreme area requirements, the Demonstration of Compliance identifies the Coachella Valley Extreme Area Plan for 1997 8-Hour Ozone, December 8, 2020 (“Coachella Extreme Area Plan”) ³⁶ as the approved SIP submittal ³⁷ addressing the 1997 ozone NAAQS. This plan addresses the reasonable further progress and rate of progress demonstrations, the reasonably available control measures demonstration, and the attainment demonstration ³⁸ relying only on continued implementation of existing rules.³⁹ The Demonstration of Compliance and the CARB letter also emphasize the no new measures were taken to reduce emissions of ozone precursors.⁴⁰

³⁶ The Coachella Valley Extreme Area Plan for the 1997 8-Hour Ozone, SCAQMD, December 8, 2020.

³⁷ 89 FR 49815 (June 12, 2024).

³⁸ Demonstration of Compliance, see for example, p. 7.

³⁹ Id.

⁴⁰ Id., p. 5 and 6.

The Demonstration of Compliance also discusses air quality monitoring trends. The 2023 design value, which is based on data from 2021 to 2023, for Coachella Valley is 0.085 ppm, which does not meet the 1997 ozone NAAQS.⁴¹ The Demonstration of Compliance, however, also notes the exceptional events demonstration submitted for EPA approval, which, if concurred upon, would result in a 4th highest daily 8-hour average value in the 2023 attainment year of 0.083 ppm, which is less than 0.084 ppm. The EPA concurred upon the exceptional events demonstration on December 10, 2024.

⁴¹ Id., p. 8.

B. The EPA's Evaluation

1. Compliance With the Applicable SIP

The District and CARB have certified that they have complied with all requirements and commitments pertaining to these areas in the approved implementation plan. We acknowledge the 2007 AQMP, 2014 SIP Updates and the Coachella Extreme Area Plan were approved into the SIP ⁴² and relied on existing measures and did not include new rules or commitments for future rules.

⁴² The 2007 AQMP and 2014 SIP Updates were approved into the SIP in a final rule published on June 12, 2017 (82 FR 26854). The relevant portions of the Coachella Extreme Area Plan were approved into the SIP in a final rule published on June 12, 2024 (89 FR 49815).

An additional State submittal, not included in the CARB letter or its attachments, addressed the CAA 1997 ozone requirements for a reasonably available control technology (RACT) demonstration. On December 18, 2008, the EPA approved the “SCAQMD 8-hour Ozone Reasonably Available Control Technology (RACT) State Implementation Plan (SIP) Demonstration” (“2008 RACT Demonstration”) ⁴³ for the 1997 ozone NAAQS into the SIP.⁴⁴ Like the other Coachella Valley plan submissions, the RACT SIP submittal did not include new rules but instead evaluated existing rules, which the EPA determined adequate to address the Serious area RACT SIP requirement.⁴⁵ The State has submitted subsequent documents to address the RACT SIP requirements for the 2008 and 2015 ozone NAAQS. The Coachella Valley Extreme Area Plan included a RACT SIP analysis intended to supplement the RACT SIP submittal for the 2015 ozone NAAQS ⁴⁶ and to fulfill the Extreme area RACT SIP requirements for the 1997 ozone NAAQS; however, the EPA has yet to act on this submittal. The 2008 RACT Demonstration is the only SIP-approved submittal addressing the RACT requirements for the 1997 ozone NAAQS. Therefore, the EPA is proposing to determine that the State has complied with all SIP-approved RACT requirements for the 1997 ozone NAAQS for the Coachella Valley, and that CARB and the District have complied with all requirements and commitments pertaining to the area in the applicable implementation plan.⁴⁷

⁴³ SCAQMD 8-Hour Ozone Reasonably Available Control Technology (RACT) State Implementation Plan (SIP) Demonstration, SCAQMD, June 2006.

⁴⁴ 73 FR 76947.

⁴⁵ State has submitted subsequent documents addressing the CAA RACT requirements, including the Coachella Extreme Area Plan, which included a supplemental RACT demonstration, updating the RACT.

⁴⁶ Draft Final Staff Report for 2015 8-Hour Ozone Standard Reasonably Available Control Technology (RACT) Demonstration, SCAQMD, May 2020.

⁴⁷ Some of the Coachella Valley 1997 ozone NAAQS SIP planning requirements remain unaddressed, such as the contingency measure requirement; however, for this demonstration, the State must show it has implemented the EPA-approved SIP, as discussed in Section I.C.

The Demonstration of Compliance also addressed monitoring data. Based on our concurrence on the District and CARB exceptional events demonstration, the 4th highest daily maximum 8-hour average ozone concentration recorded during 2023 for the Coachella Valley was 0.083 ppm, less than 0.084 ppm as required to satisfy the criteria under 40 CFR 51.907(a). Therefore, based on our proposed determination that the State has complied with all requirements and commitments pertaining to the area in the applicable attainment plan, and based on the 4th highest daily maximum 8-hour average ozone concentration of 0.083 ppm in the attainment year, the EPA proposes to grant the requested 1-year extension of the June 15, 2024 Extreme area attainment date for the Coachella Valley area.

2. Monitoring Network Considerations

Section 110(a)(2)(B)(i) of the CAA requires States to establish and operate air monitoring networks to compile data on ambient air quality for all criteria pollutants. In the Coachella Valley, SCAQMD is responsible for assuring that the area meets air quality monitoring requirements. The District's annual network plans describe the air monitoring network as required under 40 CFR 58.10. The EPA reviews these annual network plans for compliance with specific requirements in 40 CFR part 58. With respect to ozone, we have found that the annual network plan submitted by SCAQMD meets the minimum monitoring requirements of 40 CFR part 58.⁴⁸

⁴⁸ We have included a copy of SCAQMD's annual network plan for 2023 in the docket for this rulemaking, along with a letter providing EPA's review of this plan.

Finally, the EPA conducts regular Technical Systems Audits (TSAs) where we review and inspect State and local ambient air monitoring programs to assess compliance with applicable regulations concerning the collection, analysis, validation, and reporting of ambient air quality data. For the purposes of this proposal, we reviewed the findings from the EPA's 2020 TSA of the SCAQMD ambient air monitoring program.⁴⁹ The results of this TSA do not preclude the EPA from determining that the Coachella Valley qualifies for an extension of the 1997 ozone NAAQS.

⁴⁹ See letter from Elizabeth Adams, EPA Region IX, to Dr. Matt Miyasato, SCAQMD, dated March 18, 2021, and enclosure titled, “Technical Systems Audit Report, SCAQMD, June 1-June 5, 2020.”

3. Monitoring Data

In accordance with 40 CFR 58.15, South Coast AQMD certifies annually that the previous year's ambient concentration and quality assurance data are completely submitted to AQS and that the ambient concentration data are accurate, taking into consideration the quality assurance findings.⁵⁰ As discussed in Section 1.B.4 of this document, and consistent with CAA section 181(a)(5), 40 CFR 51.907 requires a nonattainment area's 4th highest daily 8-hour average to be 0.084 ppm or less in the attainment year for the area to be eligible for an extension. Two ozone monitoring sites were located in the Coachella Valley in 2023. One site, Indio—Jackson Street, was closed in 2023 due to a loss of lease. The District began monitoring at a new location on January 1, 2024, which the EPA approved on October 29, 2024.⁵¹ Because the Indio—Jackson Street monitor has not historically measured the highest ozone concentrations in the area, we find that the incompleteness of the 2023 data set from that site does not preclude an extension of the 1997 ozone NAAQS for the Coachella Valley. The monitoring data summarized in Table 1 are otherwise complete for the purposes of an attainment date extension.

⁵⁰ We have included South Coast AQMD's annual data certification for 2023 in the docket for this rulemaking.

⁵¹ Letter from Dena Vallano, EPA Region IX, to Jason C. Low, SCAQMD, dated October 29, 2024.

Table 1—Coachella Valley Ozone 2023 4th High 8-Hour Ozone Concentrations and Design Values (ppm)
Site name | AQS ID | 2023 4th highest daily maximum (ppm)
Palm Springs—Fire Station | 060655001 | ¹ 0.083
Joshua Tree NP—Cottonwood Visitor Center | 060650010 | 0.071
Indio | 060652002 | ² N/A
¹ Excludes exceptional events as discussed in Section I.D.
² Data was not collected at the Indio site in 2023 due to temporary closure.
Source: EPA, AQS Design Value (AMP480), Report Request ID: 2248793, December 20, 2024.

III. The EPA's Proposed Action

In response to a request from the State of California on October 11, 2024, the EPA is proposing to grant a one-year extension to the applicable Extreme area attainment date for the 1997 ozone NAAQS for the Coachella Valley. The proposed action to extend the applicable Extreme attainment date for this nonattainment area is based on the EPA's evaluation of air quality monitoring data and the extension request submitted by the State of California and our determination that the State has satisfied the two statutory criteria for a one-year extension under CAA section 181(a)(5) and 40 CFR 51.907.

If finalized, this action would extend the applicable Extreme area attainment date for the Coachella Valley from June 15, 2024, to June 15, 2025. In addition, the EPA would be obligated to determine whether the area attained the standard within six months following the applicable attainment date, consistent with CAA Section 181(b)(2)(A).

IV. Statutory and Executive Order Reviews

Under the Clean Air Act, the Administrator is required to approve submissions that comply with the provisions of the Act and applicable federal regulations. 42 U.S.C. 7410(k); 40 CFR 52.02(a). Thus, in reviewing this submissions, the EPA's role is to evaluate a state's demonstration and whether it meets the criteria of the Clean Air Act. Accordingly, this proposed action does not impose additional requirements beyond those imposed by state law. For that reason, this proposed action:

• Is not a significant regulatory action subject to review by the Office of Management and Budget under Executive Orders 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it proposes to extend the attainment date for a State program;

• Is not a significant regulatory action subject to Executive Order 13211 (66 FR 28355, May 22, 2001); and

• Is not subject to requirements of Section 12(d) of the National Technology Transfer and Advancement Act of 1995 (15 U.S.C. 272 note) because application of those requirements would be inconsistent with the Clean Air Act.

In addition, the SIP is not approved to apply on any Indian reservation land or in any other area where the EPA or an Indian Tribe has demonstrated that a Tribe has jurisdiction. In those areas of Indian country, the rule does not have tribal implications and will not impose substantial direct costs on tribal governments or preempt tribal law as specified by Executive Order 13175 (65 FR 67249, November 9, 2000).

List of Subjects

40 CFR Part 52

Environmental protection, Air pollution control, Incorporation by reference, Nitrogen oxides, Ozone, Reporting and recordkeeping requirements, Volatile organic compounds.

Dated: March 4, 2025.
Cheree D. Peterson,
Acting Regional Administrator, Region IX.

[FR Doc. 2025-04035 Filed 3-14-25; 8:45 am]

BILLING CODE 6560-50-P